DEPARTMENT OF HOUSING AND URBAN DEVELOPMENT

[Docket No. FR-5376-N-127]

Notice of Submission of Proposed Information Collection to OMB; Emergency Comment Request; Housing Choice Voucher Program Administrative Fee Study Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

This request is for the clearance of on-site data collection from public housing agencies (PHAs). The proposed data collection has three purposes: (1) To identify a sample of PHAs that are verified to be operating high-performing and efficient HCV programs, (2) to test alternative methods of measuring time spent on administrative functions in the HCV program, and (3) to collect information on the factors that affect administrative costs in the HCV program. The proposed data collection will take place through site visits to 60 PHAs and will include interviews with PHA staff, interviews with program partners, and reviews of client files and administrative data collected by the PHA, included documentation related to the HCV program budget. In addition, at 5 of the 60 sites the research team will beta-test three alternative methods of collecting data on PHA staff time spent on the range of activities required to administer the HCV program. The results of the site visits and beta-tests will be used to develop the research design, sampling approach, and data collection instruments for a national study of the costs of administering the HCV program based on direct measurement of staff and other program costs among a sample of high-performing HCV programs. The results of this national study—for which separate OMB clearance will be sought—will be used to estimate administrative fees and develop a new administrative fee allocation formula for the HCV program.

DATES: Comments Due Date: January 27, 2011.

ADDRESSES: Interested persons are invited to submit comments regarding this proposal. Comments must be received within thirty (30) days from the date of this Notice. Comments should refer to the proposal by name/or OMB approval number (2528-Housing Choice Voucher Program Administrative Fee Study) and should be sent to: Ross A. Rutledge, HUD Desk Officer, Office of Management and Budget, New Executive Office Building, Washington, DC 20503; e-mail: Ross.A.Rutledge@omb.eop.gov; Fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Housing Choice Voucher Program Administrative Fee Study.

Description of Information Collection: This request is for the clearance of on-site data collection from public housing agencies (PHAs). The proposed data collection has three purposes: (1) To identify a sample of PHAs that are verified to be operating high-performing and efficient HCV programs, (2) to test alternative methods of measuring time spent on administrative functions in the HCV program, and (3) to collect information on the factors that affect administrative costs in the HCV program. The proposed data collection will take place through site visits to 60 PHAs and will include interviews with PHA staff, interviews with program partners, and reviews of client files and administrative data collected by the PHA, included documentation related to the HCV program budget. In addition, at 5 of the 60 sites the research team will beta-test three alternative methods of collecting data on PHA staff time spent on the range of activities required to administer the HCV program. The results of the site visits and beta-tests will be used to develop the research design, sampling approach, and data collection instruments for a national study of the costs of administering the HCV program based on direct measurement of staff and other program costs among a sample of high-performing HCV programs. The results of this national study—for which separate OMB clearance will be sought—will be used to estimate administrative fees and develop a new administrative fee allocation formula for the HCV program.

OMB Control Number: 2528-NEW.

Agency Form Numbers: None.

Members of Affected Public: Up to 375 public housing agency staff persons (an average of 5 staff members at each of the 60 sites, plus up to 15 staff members at the 5 beta-test sites) and up to 180 staff from partner organizations (an average of 3 representatives of partner organizations at each of the 60 sites).

Estimation of the total numbers of hours needed to prepare the information collection including number of respondents, frequency of responses, and hours of response: The average time for a PHA staff person to complete the interview is 1.5 hours. Up to 5 PHA staff will be interviewed per site, for a maximum estimated burden for the PHA staff interviews of 600 hours (300 people times 2 hours per person). In addition, up to 3 representatives of program partners will be interviewed per site, for a maximum estimated burden for the program partner interviews of 180 hours (180 people times 1 hour per person). Finally, at the 5 beta-test sites, up to 15 PHA staff will spend up to 20 minutes per day for 5 days documenting time spent on various activities related to voucher program administration, for a maximum estimated staff burden of 127.5 hours (75 people times 1.7 hours per person). These same staff will also participate in 1 hour of training related to the beta-test data collection, for a maximum staff burden of 75 hours (75 staff times 1 hour per person). The total estimated burden across the three data collection activities for the study is 980 hours.

Authority: The Paperwork Reduction Act of 1995, 44 U.S.C. chapter 35, as amended.

Dated: December 21, 2010.
Colette Pollard,
Departmental Reports Management Officer, Office of the Chief Information Officer.

[FR Doc. 2010-32684 Filed 12-27-10; 8:45 am]

BILLING CODE 4210-67-P